DEPARTMENT OF ENERGY

Federal Energy Regulatory Commission

[Docket No. CP08-449-000]

Texas Gas Transmission, LLC; Notice of Request Under Blanket Authorization

August 8, 2008.

Take notice that on August 1, 2008, Texas Gas Transmission, LLC (Texas Gas), 3800 Frederica Street, Owensboro, Kentucky 42301, filed in Docket No. CP08-449-000, a prior notice request pursuant to sections 157.205, 157.208, and 157.212 of the Federal Energy Regulatory Commission's regulations under the Natural Gas Act for authorization to construct, own, and operate a new interconnect on Texas Gas' Eunice Thibodaux system, located in Acadia Parish, Louisiana, in order to receive revaporized liquefied natural gas (LNG) from Kinder Morgan Louisiana Pipeline LLC (KMLP), all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Specifically, Texas Gas proposes to construct two sixteen-inch side valves, approximately fifty feet of connecting 20-inch piping, overpressure protection equipment with bypass, electronic flow measurement equipment, communication equipment, and other appurtenant auxiliary facilities in order to receive 600 MMcf/d of revaporized LNG from KMLP, which will directly connect to the Cheniere Sabine Pass LNG import terminal, located in Cameron Parish, Louisiana. Texas Gas estimates the cost of construction to be $712,113, with all costs associated with such facilities to be reimbursed by KMLP. Texas Gas states that addition of the proposed receipt point will have no significant impact on Texas Gas' peak day or annual deliveries.

Any questions regarding the application should be directed to Kathy D. Fort, Manager of Certificates and Tariffs, Texas Gas Transmission, LLC, 3800 Frederica Street, Owensboro, Kentucky 42301, or call (270) 688-6825, fax (270) 688-5871, or e-mail kathy.fort@bwpmlp.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the “e-Filing” link.

Kimberly D. Bose,
Secretary.

[FR Doc. E8-18995 Filed 8-15-08; 8:45 am]

BILLING CODE 6717-01-P